COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List products and a service to be furnished by nonprofit agencies employing persons who are blind or have other severe disabilities.

DATES: Effective Date: August 31, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION: On May 23 and June 6, 2008, the Committee for Purchase From People Who Are Blind or Severely Disabled published notice (73 FR 30046; 32287) of proposed additions to the Procurement List.

After consideration of the material presented to it concerning capability of qualified nonprofit agencies to provide the products and services and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

Mop, Dust and Floor

NSN: 7920-00-616-2493—Dust Mop

NSN: 7920-00-782-3784—Floor Mop

Coverage: B-List for the broad Government requirement as specified by the General Services Administration.

NPA: New York City Industries for the Blind, Inc., Brooklyn, NY.

Contracting Activity: General Services Administration, Southwest Supply Center, Fort Worth, TX.

Filter, Notebook, Privacy

NSN: 7520-00-NIB-1943—Filter, Notebook, Privacy, 14.1”

NSN: 7520-00-NIB-1944—Filter, Notebook, Privacy, 14.1W

NSN: 7520-00-NIB-1945—Filter, Notebook, Privacy, 15.0”

NSN: 7520-00-NIB-1946—Filter, Notebook, Privacy, 15.4”

NSN: 7520-00-NIB-1947—Filter, Notebook, Privacy, 17.0”

NSN: 7520-00-NIB-1948—Filter, Notebook, Privacy, 17.0W

NSN: 7520-00-NIB-1950—Filter, Notebook, Privacy, 19.0”

NSN: 7520-00-NIB-2006—Filter, Notebook, Privacy, 19.0”W

Coverage: A-List for the total Government requirement as specified by the General Services Administration.

NSN: 7520-00-NIB-1941—Filter, Notebook, Privacy 12.1”

NSN: 7520-00-NIB-1942—Filter, Notebook, Privacy, 12.1W

NSN: 7520-00-NIB-2005—Filter, Notebook, Privacy, 13.3”W

NSN: 7520-00-NIB-2007—Filter, Notebook, Privacy, 20.1”

NSN: 7520-00-NIB-2008—Filter, Notebook, Privacy, 20.1”W

NSN: 7520-00-NIB-2009—Filter, Notebook, Privacy, 22”W

NSN: 7520-00-NIB-2010—Filter, Notebook, Privacy, 24”W

Coverage: B-List for the broad Government requirement as specified by the General Services Administration.

NPA: Wiscraft Inc.—Wisconsin Enterprises for the Blind, Milwaukee, WI.

Contracting Activity: General Services Administration, Federal Supply Services, Region 2, New York, NY.

File Folders, Colored, Recycled

NSN: 7530-00-NIB-0866—Letter-size, Assorted Colors, 1/3 cut, 100/BX

NSN: 7530-00-NIB-0867—Letter-size, Blue, 1/3 Cut, 100/BX

NSN: 7530-00-NIB-0868—Letter-size, Bright Green, 1/3 cut, 100/BX

NSN: 7530-00-NIB-0869—Letter-size, Red, 1/3 cut, 100/BX

NSN: 7530-00-NIB-0870—Letter-size, Purple, 1/3 cut, 100/BX

NSN: 7530-00-NIB-0871—Letter-size, Yellow, 1/3 cut, 100/BX

NSN: 7530-00-NIB-0872—Letter-size, Double Ply Reinforced, Assorted Colors, 1/3 cut, 100/BX

NSN: 7530-00-NIB-0873—Letter-size, Double Ply Reinforced, Blue, 1/3 cut, 100/BX

NSN: 7530-00-NIB-0874—Letter-size, Double Ply Reinforced, Bright Green, 1/3 cut, 100/BX

NSN: 7530-00-NIB-0875—Letter-size, Double Ply Reinforced, Red, 1/3 cut, 100/BX

NSN: 7530-00-NIB-0876—Letter-size, Double Ply Reinforced, Purple, 1/3 cut, 100/BX

NSN: 7530-00-NIB-0877—Letter-size, Double Ply Reinforced, Yellow, 1/3 cut, 100/BX

Coverage: A-list for the total Government requirements as specified by the General Services Administration.

NPA: L.C. Industries For The Blind, Inc., Durham, NC.

Contracting Activity: General Services Administration, Federal Supply Services, Region 2, New York, NY.

Service

Service Type/Location: Food Service Attendant, 183rd Guard Capitol Airport, Air National Guard Base, 3101 J. David Jones Parkway, Springfield, IL.

NPA: United Cerebral Palsy of the Land of Lincoln, Springfield, IL.

Contracting Activity: United States Air Force, 183rd Fighter Wing, Air National Guard, Springfield, IL.

This action does not affect current contracts awarded prior to the effective date of this addition or options that may be exercised under those contracts.

Kimberly M. Zeich,
Director, Program Operations.

[FR Doc. E8-17684 Filed 7-31-08; 8:45 am]

BILLING CODE 6353-01-P